DEPARTMENT OF AGRICULTURE

National Institute of Food and Agriculture

Stakeholder Listening Opportunity for Priorities in Research, Education and Extension

AGENCY: National Institute of Food and Agriculture (NIFA), USDA.

ACTION: Notice of listening sessions and stakeholder feedback opportunities.

SUMMARY: USDA National Institute of Food and Agriculture announces its stakeholder listening initiative “NIFA Listens: Investing in Science to Transform Lives.” This stakeholder listening opportunity informs the research, extension and education priorities of NIFA, which has the mission of investing in and advancing agricultural research, education and extension to solve societal challenges. For the purpose of this opportunity, Agriculture is defined broadly and includes research, extension, and education in food, fiber, forestry, range, nutritional and social sciences, including food safety and positive youth development. NIFA's investments in transformative science directly support the long-term prosperity and global pre-eminence of U.S. agriculture. This listening opportunity allows stakeholders to provide feedback on the following questions: “When considering all of agriculture, what is the greatest challenge that should be addressed through NIFA's research, education, and extension?”, “In your field, what is the most-needed breakthrough in science/technology that would advance your agricultural enterprise?” and, “What is your top priority in food and agricultural research, extension, or education that NIFA should address?”

This effort to obtain input regarding the challenges, needed breakthroughs, and priorities will be carried out through online and in-person submission mechanisms. Stakeholder input received from the two mechanisms is treated equally. The challenges, needed breakthroughs, and priorities identified by this effort will be evaluated in conjunction with input from NIFA staff. This information will be critical for NIFA's evaluation of existing science emphasis areas and to identify investment opportunities and gaps in the current portfolio of programs. The information obtained through this iterative analysis and synthesis will help to ensure the strategic positioning and relevancy of NIFA's investments in advancing agricultural research, education and extension.

DATES:

(A) Online Input: Submission of online stakeholder input to the target questions will be open upon publishing of this Notice through 5 p.m. Eastern time November 30, 2018.

(B) In-person Listening Sessions: Four listening sessions, each a full day, will be organized throughout the United States to obtain input from all stakeholders, including small institutions, local business and other stakeholder groups. The listening sessions will take place on October 11, 2018, October 18, 2018, October 25, 2018, and November 1, 2018. Each session will begin at 8:30 a.m. and is scheduled to end no later than 5:00 p.m. Each session will include a presentation of the goals and background information on NIFA programs, followed by comments from stakeholders. Each registered speaker will receive 5 minutes to share their comments with the Agency. If time allows after all comments from registered speakers are made, unscheduled speakers will be allowed 5 minutes to present their comments to the Agency. The length of the sessions will be adjusted according to numbers of participants seeking to provide input. All parties interested in attending an in-person listening session must RSVP no later than one week prior to the scheduled session. These sessions will be webcast and transcribed. Information about registering for the in-person session, providing written comments and viewing the webcast can be found at https://nifa.usda.gov/nifalistens.

Registration: The website, https://nifa.usda.gov/nifalistens, includes instructions on submitting written comments and registering to attend or speak at the in-person listening sessions. All parties interested in attending an in-person listening session must RSVP no later than one week prior to the scheduled session. The number of attendees and oral commenters is limited due to time and space constraints (see below). Oral commenter slots will be allotted on a first-come, first-served basis. All interested stakeholders, regardless of attendance, are welcome to submit written comments.

Comments: Written comments are due by 5 p.m. Eastern time November 30, 2018. Written comments must be submitted electronically through https://nifa.usda.gov/nifalistens or emailed to NIFAlistens@nifa.usda.gov.

ADDRESSES: The in-person listening sessions will take place at conference facilities in Hartford, CT (October 11, 2018), New Orleans, LA (October 18, 2018), Minneapolis, MN (October 25, 2018), and Albuquerque, NM (November 1, 2018).

All parties interested in attending an in-person listening session must RSVP no later than one week prior to the scheduled session they wish to attend.

FOR FURTHER INFORMATION CONTACT: Megan Haidet, Program Specialist, NIFA, at 202-401-6617, email NIFAlistens@nifa.usda.gov, or visit https://nifa.usda.gov/nifalistens for detailed information about providing written comments, joining the in-person sessions remotely, or registering to speak at an in-person session.

SUPPLEMENTARY INFORMATION: The science priority-setting process at NIFA involves soliciting stakeholder input on agricultural research, education and extension needs, obtaining input from NIFA's science staff who are informed through interactions with scientific communities, and evaluating existing programs to identify critical gaps in the current portfolio of programs in order to address challenges in U.S. agriculture.

This listening effort will focus on answers to the following questions, “When considering all of agriculture, what is the greatest challenge that should be addressed through NIFA's research, education, and extension?”, “In your field, what is the most-needed breakthrough in science/technology that would advance your agricultural enterprise?”, and “What is your top priority in food and agricultural research, extension, or education that NIFA should address?”

NIFA welcomes stakeholder input from any group or individual interested in agricultural research, extension or education priorities for NIFA. NIFA is eager to listen to stakeholder's comments on the challenges, needed breakthroughs, and priorities, solutions and opportunities that will facilitate long-term sustainable agricultural production, research, education and extension. Agriculture in this context is defined broadly and includes research, extension, and education in food, fiber, forestry, range, nutritional and social sciences, including food safety and positive youth development. This listening effort will focus on the agricultural science that NIFA invests in, but not on NIFA processes or procedures.

All parties interested in attending an in-person listening session must RSVP no later than one week prior to the scheduled session they will attend. Abstracts from in-person speakers can be submitted upon registration via https://nifa.usda.gov/nifalistens.

Written comments by all interested stakeholders are welcomed through 5 p.m. Eastern time, November 30, 2018. All input will become a part of the official record and available on the NIFA website, https://nifa.usda.gov/nifalistens.

Done at Washington, DC, this day of August 1, 2018.
Thomas Shanower,
Acting Director, National Institute of Food and Agriculture.

[FR Doc. 2018-18535 Filed 8-24-18; 8:45 am]

BILLING CODE 3410-22-P